DEPARTMENT OF STATE

[Public Notice: 9201]

60-Day Notice of Proposed Information Collection: Contact Information and Work History for Nonimmigrant Visa Applicant

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to September 28, 2015.

ADDRESSES: You may submit comments by any of the following methods:

• Web: Persons with access to the Internet may comment on this notice by going to www.Regulations.gov. You can search for the document by entering Docket Number: DOS-2015-0032 in the Search field. Then click the “Comment Now” button and complete the comment form.

• Email: PRA_BurdenComments@state.gov. You must include the DS form number, information collection title, and the OMB control number in the subject line of your message.

You must include the DS form number (if applicable), information collection title, and the OMB control number in any correspondence.

FOR FURTHER INFORMATION CONTACT: Direct requests for additional information regarding the collection listed in this notice, including requests for copies of the proposed collection instrument and supporting documents, to George Weber, who may be reached on 202-485-7637 or at PRA5BurdenComments@state.gov.

SUPPLEMENTARY INFORMATION: • Title of Information Collection: Contact Information and Work History for Nonimmigrant Visa Applicant.

• OMB Control Number: 1405-0144.

• Type of Request: Extension of a Currently Approved Collection.

• Originating Office: CA/VO/L/R.

• Form Number: DS-158.

• Respondents: Nonimmigrant Visa Applicants.

• Estimated Number of Respondents: 10,000.

• Estimated Number of Responses: 10,000.

• Average Time per Response: 1 hour.

• Total Estimated Burden Time: 10,000.

• Frequency: One time per visa application.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

This form collects contact information, current employment information, and previous work experience information from aliens applying for nonimmigrant visas to enter the United States. The information collected is necessary to determine eligibility for certain visa classifications.

Methodology

Applicants may fill out the DS-158 online or print the page and fill it out by hand and submit it in person at the time of interview.

Dated: July 9, 2015.
Ed Ramotowski,
Deputy Assistant Secretary, Bureau of Consular Affairs, Department of State.

[FR Doc. 2015-18471 Filed 7-27-15; 8:45 am]

BILLING CODE 4710-06-P